INTERNATIONAL TRADE COMMISSION

[Investigation Nos. 701-TA-449 and 731-TA-1118-1120 (Final)]

Light-Walled Rectangular Pipe and Tube From China, Korea, and Mexico

Determinations

On the basis of the record ¹ developed in the subject investigations, the United States International Trade Commission (Commission) determines, pursuant to sections 705(b) and 735(b) of the Tariff Act of 1930 (19 U.S.C. 1671d(b) & 1673d(b)) (the Act), that an industry in the United States is materially injured by reason of imports from China, Korea, and Mexico of light-walled rectangular pipe and tube, provided for in subheading 7306.61.50 of the Harmonized Tariff Schedule of the United States, that have been found by the Department of Commerce (Commerce) to be sold in the United States at less than fair value (LTFV) and by imports from China of light-walled rectangular pipe and tube found by Commerce to be subsidized by the Gove rnment of China.² ³

¹ The record is defined in sec. 207.2(f) of the Commission's Rules of Practice and Procedure (19 CFR § 207.2(f)).

² Commissioner Dean A. Pinkert is recused from these investigations.

³ The Commission also finds that imports subject to Commerce's affirmative critical circumstances determination are not likely to undermine seriously the remedial effect of the antidumping duty order on China.

Background

The Commission instituted these investigations effective June 27, 2007, following receipt of a petition filed with the Commission and Commerce by twelve U.S. producers.⁴ The final phase of the investigations was scheduled by the Commission following notification of preliminary determinations by Commerce that imports of light-walled rectangular pipe and tube from China were being subsidized within the meaning of section 703(b) of the Act (19 U.S.C. 1671b(b)) and that imports of light-walled rectangular pipe and tube from China, Korea, and Mexico were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of February 5, 2008 (73 FR 6740). The hearing was held in Washington, DC, on April 11, 2008, and all persons who requested the opportunity were permitted to appear in person or by counsel.

⁴ Allied Tube and Conduit, Harvey, IL; Atlas Tube, Plymouth, MI; California Steel and Tube, City of Industry, CA; EXLTUBE, Kansas City, MO; Hannibal Industries, Los Angeles, CA; Leavitt Tube Company LLC, Chicago, IL; Maruichi American Corporation, Sante Fe Springs, CA; Searing Industries, Rancho Cucamonga, CA; Southland Tube, Birmingham, AL; Vest Inc., Los Angeles, CA; Welded Tube, Concord, Ontario (Canada); and Western Tube and Conduit, Long Beach, CA.

The Commission transmitted its determinations in these investigations to the Secretary of Commerce on July 28, 2008. The views of the Commission are contained in USITC Publication 4024 (July 2008), entitled Light-Walled Rectangular Pipe and Tube from China, Korea, and Mexico, Inv. Nos. 701-TA-449 and 731-TA-1118-1120 (Final)).

By order of the Commission.
Issued: July 28, 2008.
Marilyn R. Abbott,
Secretary to the Commission.

[FR Doc. E8-17764 Filed 8-1-08; 8:45 am]

BILLING CODE 7020-02-P